DEPARTMENT OF HEALTH AND HUMAN SERVICES

Office of the Secretary

Findings of Research Misconduct

AGENCY: Office of the Secretary, HHS.

ACTION: Notice.

SUMMARY: Notice is hereby given that the Office of Research Integrity (ORI) has taken final action in the following case:

Helen Freeman, Ph.D., Harvard Medical School and Beth Israel Deaconess Medical Center: Based on an investigation conducted by Harvard Medical School (HMS) and Beth Israel Deaconess Medical Center (BIDMS) and additional analysis conducted by ORI in its oversight review, ORI found that Dr. Helen Freeman, former HMS Postdoctoral Fellow at BIDMS, engaged in research misconduct in research supported by National Institute of Diabetes and Digestive and Kidney Diseases (NIDDK), National Institutes of Health (NIH), grant R37 DK053477.

ORI found that the Respondent engaged in research misconduct by knowingly and intentionally falsifying three (3) figures and/or legends and one (1) supplemental movie legend in a manuscript submitted for publication to the journal Nature (Freeman, H.C., Kong, D., Sidman, R.L., & Lowell, B. “Inhibition of UCP2 Prevents Neurodegenerative Diseases in Mice.”).

Specifically, ORI found that Respondent:

• Falsified Figure 6 and its legend in a manuscript submitted to Nature by claiming that the experiment represented histological and rotarod results from 5 week old pcd3J-/- mice treated with saline or pcd3J-/- mice treated with genipin when the genotype, treatment conditions, numbers of mice used, and mice age were not as claimed; these falsified data also were presented to a colleague for use in related experiments

• falsified Figure 4, Supplementary Figure 3, and Supplementary Movie 1 and/or its legends in a manuscript submitted to Nature by claiming that the knockout of UCP2 rescues the ataxic phenotype of pcd3J-/- mice when she knew this to be false.

•

Dr. Freeman has voluntarily agreed for a period of three (3) years, beginning on May 6, 2014:

(1) To have her research supervised if employed by an institution that receives or applies for U.S. Public Health Service (PHS) funding; Respondent agreed that prior to the submission of an application for PHS support for a research project on which the Respondent's participation is proposed and prior to Respondent's participation in any capacity on PHS-supported research, Respondent shall ensure that a plan for supervision of Respondent's duties is submitted to ORI for approval; the supervision plan must be designed to ensure the scientific integrity of Respondent's research contribution; Respondent agreed that she shall not participate in any PHS-supported research until such a supervision plan is submitted to and approved by ORI; Respondent agreed to maintain responsibility for compliance with the agreed-upon supervision plan;

(2) that any institution employing her shall submit, in conjunction with each application for PHS funds, or report, manuscript, or abstract involving PHS-supported research in which Respondent is involved, a certification to ORI that the data provided by Respondent are based on actual experiments or are otherwise legitimately derived and that the data, procedures, and methodology are accurately reported in the application, report, manuscript, or abstract; and

(3) to exclude herself voluntarily from serving in any advisory capacity to PHS including, but not limited to, service on any PHS advisory committee, board, and/or peer review committee, or as a consultant.

FOR FURTHER INFORMATION CONTACT: Acting Director, Office of Research Integrity, 1101 Wootton Parkway, Suite 750, Rockville, MD 20852, (240) 453-8800.

Donald Wright,
Acting Director, Office of Research Integrity.

[FR Doc. 2014-12442 Filed 5-28-14; 8:45 am]

BILLING CODE 4150-31-P